DEPARTMENT OF TRANSPORTATION

Federal Motor Carrier Safety Administration

[Docket No. FMCSA-2016-0029]

Qualification of Drivers; Exemption Applications; Vision

AGENCY: Federal Motor Carrier Safety Administration (FMCSA), DOT.

ACTION: Notice of applications for exemptions; request for comments.

SUMMARY: FMCSA announces receipt of applications from 23 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before July 28, 2016. All comments will be investigated by FMCSA. The exemptions will be issued the day after the comment period closes.

ADDRESSES: You may submit comments bearing the Federal Docket Management System (FDMS) Docket No. FMCSA-2016-0029 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 23 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Patrick R. Beallis

Mr. Beallis, 49, has had refractive amblyopia in his left eye since childhood. The visual acuity in his right eye is 20/20, and in his left eye, 20/100. Following an examination in 2015, his optometrist stated, “In my opinion, Mr. Beallis has sufficient vision to perform the driving tasks required to operate a commercial vehicle.” Mr. Beallis reported that he has driven straight trucks for 24 years, accumulating 60,000 miles. He holds an operator's license from Illinois. His driving record for the last 3 years shows no crashes and no convictions for moving violations in a CMV.

Gary A. Brown

Mr. Brown, 70, has had central chorioretinitis in his left eye since childhood. The visual acuity in his right eye is 20/20, and in his left eye, 20/200. Following an examination in 2016, his optometrist stated, “Pt. [sic] has sufficient vision to perform driving tasks required to operate a commercial vehicle.” Mr. Brown reported that he has driven straight trucks for 53 years, accumulating 265,000 miles, and tractor-trailer combinations for 39 years, accumulating 195,000 miles. He holds a Class AM CDL from Pennsylvania. His driving record for the last 3 years shows no crashes and no convictions for moving violations in a CMV.

Dudley G. Diebold

Mr. Diebold, 75, has a prosthetic left eye due to a traumatic incident in 1981. The visual acuity in his right eye is 20/20, and in his left eye, no light perception. Following an examination in 2016, his ophthalmologist stated, “The patient has sufficient vision to perform a driving test required to operate a commercial vehicle.” Mr. Diebold reported that he has driven straight trucks for 60 years, accumulating 600,000 miles. He holds a Class A CDL from Connecticut. His driving record for the last 3 years shows no crashes and no convictions for moving violations in a CMV.

David L. Evers

Mr. Evers, 65, has had amblyopia in his left eye since childhood. The visual acuity in his right eye is 20/20, and in his left eye, 20/60. Following an examination in 2016, his optometrist stated, “In my opinion, David has sufficient vision to perform the driving tasks required to operate a commercial vehicle.” Mr. Evers reported that he has driven straight trucks for 18 years, accumulating 280,800 miles, and tractor-trailer combinations for 29 years, accumulating 3.2 million miles. He holds a Class A CDL from Minnesota. His driving record for the last 3 years shows no crashes and no convictions for moving violations in a CMV.

John M. Harris

Mr. Harris, 39, has had optic nerve hypoplasia in his left eye since birth. The visual acuity in his right eye is 20/20, and in his left eye, 20/400. Following an examination in 2016, his optometrist stated, “His corrected vision in his OD renders him safe to drive a commercial vehicle.” Mr. Harris reported that he has driven straight trucks for 15 years, accumulating 105,000 miles, and tractor-trailer combinations for 4 years, accumulating 100,000 miles. He holds an operator's license from Mississippi. His driving record for the last 3 years shows no crashes and no convictions for moving violations in a CMV.

Raymond E. Hogue

Mr. Hogue, 55, has had ocular histoplasmosis in his right eye since 2006. The visual acuity in his right eye is 20/400, and in his left eye, 20/30. Following an examination in 2016, his ophthalmologist stated, “I believe that Raymond, in my medical opinion, would have sufficient vision to perform driving tasks required to operate a commercial vehicle.” Mr. Hogue reported that he has driven straight trucks for 8 years, accumulating 40,000 miles, and tractor-trailer combinations for 20 years, accumulating 1.3 million miles. He holds a Class AM CDL from Pennsylvania. His driving record for the last 3 years shows no crashes and no convictions for moving violations in a CMV.

Michael E. Jones

Mr. Jones, 53, has a prosthetic right eye due to a traumatic incident in 2010. The visual acuity in his right eye is no light perception, and in his left eye, 20/15. Following an examination in 2016, his optometrist stated, “His color vision is not impaired and he should have no visual difficulties performing the driving tasks required to operate a commercial vehicle.” Mr. Jones reported that he has driven straight trucks for 4 years, accumulating 80,000 miles, and tractor-trailer combinations for 17 years, accumulating 1.7 million miles. He holds a Class AM CDL from Illinois. His driving record for the last 3 years shows no crashes and no convictions for moving violations in a CMV.

Robert L. Jones

Mr. Jones, 61, has had glaucoma in his left eye since 2000. The visual acuity in his right eye is 20/20, and in his left eye, no light perception. Following an examination in 2015, his ophthalmologist stated, “The patient has successfully driven a commercial vehicle for many years. In the absence of any change in his visual function, I see no indication that he could not continue to do so.” Mr. Jones reported that he has driven straight trucks for 14 years, accumulating 140,000 miles, and tractor-trailer combinations for 16 years, accumulating 960,000 miles. He holds a Class A CDL from Florida. His driving record for the last 3 years shows no crashes and no convictions for moving violations in a CMV.

Richard A. Kolodziejczyk

Mr. Kolodziejczyk, 48, has had refractive amblyopia in his right eye since childhood. The visual acuity in his right eye is 20/50, and in his left eye, 20/20. Following an examination in 2016, his optometrist stated, “I do certify that in my medical opinion, Richard does have sufficient vision to [sic], visual skills, and visual-motor skills to perform the driving tasks necessary to operate a commercial vehicle.” Mr. Kolodziejczyk reported that he has driven straight trucks for 16 years, accumulating 748,800 miles. He holds an operator's license from Connecticut. His driving record for the last 3 years shows no crashes and no convictions for moving violations in a CMV.

Dean A. Lardieri

Mr. Lardieri, 58, has a macular scar in his right eye due to a traumatic incident in 1978. The visual acuity in his right eye is counting fingers, and in his left eye, 20/20. Following an examination in 2016, his ophthalmologist stated, “In my opinion this patient has sufficient vision to perform the driving tasks required to operate a commercial vehicle.” Mr. Lardieri reported that he has driven straight trucks for 25 years, accumulating 437,500 miles. He holds an operator's license from New Jersey. His driving record for the last 3 years shows no crashes and no convictions for moving violations in a CMV.

Darius R. Law

Mr. Law, 31, has had complete loss of vision in his right eye since 2011. The visual acuity in his right eye is no light perception, and in his left eye, 20/20. Following an examination in 2016, his ophthalmologist stated, “In my opinion, Darius Law has sufficient vision to perform the driving tasks required to operate a commercial vehicle.” Mr. Law reported that he has driven straight trucks for 3 years, accumulating 12,000 miles, and tractor-trailer combinations for 1 year, accumulating 250 miles. He holds a Class A CDL from Florida. His driving record for the last 3 years shows no crashes and no convictions for moving violations in a CMV.

Robert C. Martin

Mr. Martin, 59, has a prosthetic left eye due to a traumatic incident in 1976. The visual acuity in his right eye is 20/20, and in his left eye, no light perception. Following an examination in 2015, his optometrist stated, “It is my medical opinion that Robert has sufficient vision to perform driving task [sic] required to operate a commercial vehicle.” Mr. Martin reported that he has driven straight trucks for 34 years, accumulating 850,000 miles, and tractor-trailer combinations for 34 years, accumulating 850,000 miles. He holds a Class A CDL from Washington. His driving record for the last 3 years shows no crashes and no convictions for moving violations in a CMV.

Mark. W. Mc Taggart

Mr. Mc Taggart, 42, has had macular pigment epithelial detachment in his left eye since 2011. The visual acuity in his right eye is 20/20, and in his left eye, 20/100. Following an examination in 2016, his optometrist stated, “In my professional opinion Mark has vision sufficient to operate a commercial vehicle with no improvement.” Mr. Mc Taggart reported that he has driven straight trucks for 15 years, accumulating 150,000 miles. He holds a Class A CDL from Illinois. His driving record for the last 3 years shows no crashes and no convictions for moving violations in a CMV.

Hobie S. Morse

Mr. Morse, 21, has complete loss of vision in his left eye due to a traumatic incident in 2004. The visual acuity in his right eye is 20/20, and in his left eye, no light perception. Following an examination in 2016, his optometrist stated, “It is my professional opinion that Mr. Morse has sufficient vision to perform the driving tasks required to operate a commercial vehicle.” Mr. Morse reported that he has driven straight trucks for 1.5 years, accumulating 45,000 miles, and tractor-trailer combinations for 1.5 years, accumulating 26,000 miles. He holds a Class A CDL from Arkansas. His driving record for the last 3 years shows no crashes and no convictions for moving violations in a CMV.

Noel Munoz

Mr. Munoz, 59, has had a macular scar in his right eye due to central serous retinopathy since 2008. The visual acuity in his right eye is 20/60, and in his left eye, 20/20. Following an examination in 2016, his optometrist stated, “It is my medical opinion that Noel Munoz has sufficient vision to perform the driving tasks required to operate a commercial vehicle.” Mr. Munoz reported that he has driven straight trucks for 30 years, accumulating 660,000 miles, and tractor-trailer combinations for 30 years, accumulating 360,000 miles. He holds a Class A CDL from New Mexico. His driving record for the last 3 years shows no crashes and no convictions for moving violations in a CMV.

Frank C. Newberry

Mr. Newberry, 57, has complete loss of vision in his right eye due to a traumatic incident in 2000. The visual acuity in his right eye is no light perception, and in his left eye, 20/20. Following an examination in 2016, his optometrist stated, “He has had no changes in his vision which would interfere with his driving. He should have the same driving capability now as he has had over the past 16 years.” Mr. Newberry reported that he has driven straight trucks for 36 years, accumulating 75,000 miles. He holds a Class A CDL from Idaho. His driving record for the last 3 years shows no crashes and no convictions for moving violations in a CMV.

Peter J. O'Connell

Mr. O'Connell, 40, has a macular hole in his right eye due to a traumatic incident in childhood. The visual acuity in his right eye is 20/200, and in his left eye, 20/20. Following an examination in 2016, his optometrist stated, “It is my opinion that given the longstanding nature of Peter's stable ocular injury and his ability to compensate for it for the past 30 years, he should possess sufficient vision to perform the driving tasks required to operate a commercial vehicle.” Mr. O'Connell reported that he has driven straight trucks for 9 years, accumulating 374,400 miles. He holds an operator's license from Pennsylvania. His driving record for the last 3 years shows no crashes and no convictions for moving violations in a CMV.

James M. Paul

Mr. Paul, 64, has had amblyopia in his right eye since childhood. The visual acuity in his right eye is 20/400, and in his left eye, 20/20. Following an examination in 2016, his ophthalmologist stated, “U.S. Department of Transportation Vision Program . . . In my opinion, Mr. Paul has sufficient vision to perform the driving tasks required as has been the case in the past.” Mr. Paul reported that he has driven straight trucks for 41 years, accumulating 738,000 miles, and tractor-trailer combinations for 41 years, accumulating 738,000 miles. He holds a Class AMV CDL from Alabama. His driving record for the last 3 years shows one crash, to which he did not contribute and for which he was not cited, and no convictions for moving violations in a CMV.

Ivan Romero

Mr. Romero, 28, has complete loss of vision in his right eye due to a traumatic incident in childhood. The visual acuity in his right eye is light perception, and in his left eye, 20/20. Following an examination in 2016, his optometrist stated, “Based on results from the examination and driving history without incident it appears that Mr. Romero qualifies to meet criteria for an exemption from the vision standards in Federal Motor Carrier Safety Regulations.” Mr. Romero reported that he has driven straight trucks for 4 years, accumulating 160,000 miles, and tractor-trailer combinations for 4 years, accumulating 188,000 miles. He holds a Class A CDL from Illinois. His driving record for the last 3 years shows no crashes and no convictions for moving violations in a CMV.

Richard M. Rosales

Mr. Rosales, 35, has aphakia in his right eye due to a traumatic incident in childhood. The visual acuity in his right eye is 20/400, and in his left eye, 20/20. Following an examination in 2016, his ophthalmologist stated, “In my professional opinion he has sufficient vision to perform the required driving task [sic] to operate a commercial vehicle.” Mr. Rosales reported that he has driven straight trucks for 6 years, accumulating 18,720 miles. He holds an operator's license from New Mexico. His driving record for the last 3 years shows no crashes and no convictions for moving violations in a CMV.

Jeffrey L. Tanner

Mr. Tanner, 44, has had amblyopia in his right eye since childhood. The visual acuity in his right eye is 20/100, and in his left eye, 20/20. Following an examination in 2015, his optometrist stated, “In my opinion, Mr. Tanner can safely see to navigate a commercial vehicle.” Mr. Tanner reported that he has driven straight trucks for 2 years, accumulating 2,000 miles, and tractor-trailer combinations for 1 year, accumulating 7,000 miles. He holds a Class A CDL from Wyoming. His driving record for the last 3 years shows no crashes and no convictions for moving violations in a CMV.

Steve A. Taylor

Mr. Taylor, 53, has aphakia in his right eye due to a traumatic incident in childhood. The visual acuity in his right eye is 20/60, and in his left eye, 20/20. Following an examination in 2016, his optometrist stated, “Mr. Taylor has more than adequate vision to operate a commercial vehicle.” Mr. Taylor reported that he has driven tractor-trailer combinations for 28 years, accumulating 23,400 miles. He holds a Class A CDL from North Carolina. His driving record for the last 3 years shows no crashes and no convictions for moving violations in a CMV.

Donald P. Winters

Mr. Winters, 63, has had refractive amblyopia in his left eye since childhood. The visual acuity in his right eye is 20/30, and in his left eye, 20/50. Following an examination in 2015, his optometrist stated, “Based on all of the above information regarding Mr. Winters [sic] ocular status, it is my opinion that Mr. Winters does possess sufficient vision to operate a commercial vehicle safely and would be visually capable of performing any necessary driving tasks required.” Mr. Winters reported that he has driven tractor-trailer combinations for 31 years, accumulating 3.88 million miles. He holds a Class A CDL from Virginia. His driving record for the last 3 years shows one crash, for which he was not at fault and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2016-0029 in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period. FMCSA may issue a final determination at any time after the close of the comment period.

Viewing Comments and Documents

To view comments, as well as documents mentioned in this preamble as being available in the docket, go to http://www.regulations.gov and insert the docket number FMCSA-2016-0029 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: June 17, 2016.
Larry W. Minor,
Associate Administrator for Policy.

[FR Doc. 2016-15221 Filed 6-27-16; 8:45 am]

BILLING CODE 4910-EX-P